DEPARTMENT OF STATE

[Public Notice 8948]

Notice of Preparation/Notice of Intent To Prepare an Environmental Impact Report/Environmental Impact Statement for the Otay Mesa Conveyance and Disinfection System Project

AGENCY: Department of State.

ACTION: Notice; solicitation of comments.

SUMMARY: The purpose of this Notice is to inform the public and interested federal, tribal, state, and local government entities that the Otay Water District (District) and the U.S. Department of State (DOS) intend to prepare a joint Environmental Impact Report/Environmental Impact Statement (EIR/EIS) for the Otay Mesa Conveyance and Disinfection System Project (proposed project). In November 2013, the District submitted an application to DOS for a Presidential Permit authorizing the construction, connection, operation, and maintenance of a cross-border pipeline facility for the proposed project, which would convey desalinated seawater from a new border crossing with Mexico approximately four miles northeast to the District's Roll Reservoir in San Diego County. This Notice of Preparation/Notice of Intent (NOP/NOI) informs the public about the proposed project and solicits participation and comments from interested federal, tribal, state, and local government entities and the public for consideration in establishing the scope and content of the EIR/EIS.

Project Description: The proposed project would entail construction of a potable water pipeline and associated facilities to convey desalinated sea water produced in Mexico into the District's service area in southern San Diego County, California. The scope of the proposed project for the purpose of environmental review pursuant to the California Environmental Quality Act (CEQA) and consistent with the National Environmental Policy Act (NEPA) is limited to the portion of the proposed project within the United States. The scope does not include the proposed desalination plant in Rosarito, Mexico or associated pipeline infrastructure in Mexico. Within the United States, the proposed project would involve the construction and operation of an approximately four-mile long (depending on the selected alternative) potable water pipeline with a set diameter of between 48 and 54 inches, and a metering station within the Otay Mesa area of the County of San Diego just north of the United States/Mexico border. Additionally, a pump station and/or disinfection facility may be constructed if needed.

The proposed project would enable the District to import and convey desalinated potable water from a connection point at the United States/Mexico border north to the District's existing Roll Reservoir. The proposed Mexican desalination plant (not a part of the proposed project) is envisioned to produce 100 million gallons per day (MGD) of desalinated sea water. The District intends to initially purchase approximately 20-25 MGD of desalinated sea water, and ultimately increase the amount to 50 MGD. Due to seasonal variation in demand, the District anticipates that 10 MGD would be conveyed in the winter months, and up to 50 MGD would be conveyed during peak demand periods in the summer months. Numerous alignment (routing) options were considered; however, after initial consideration of environmental and engineering opportunities and constraints, the District has chosen three alternative alignments considered the most feasible, and will address those alignments in the EIR/EIS.

The District will be responsible for approving the expenditure of public funds for the proposed project and DOS will be responsible for determining whether the proposed project serves the national interest pursuant to Executive Order 13337, and if so, issuing a Presidential Permit authorizing the construction, connection, operation, and maintenance of the cross-border pipeline facility.

Project Location: The proposed project is generally located in the southwestern portion of San Diego County, in the community of Otay Mesa, immediately adjacent to the United States/Mexico border, east of Interstate 5, Interstate 805 and State Route 125. More specifically, the proposed project is located within the East Otay Mesa Specific Plan, which lies between the Otay River Valley to the north, United States/Mexico border to the south, San Ysidro Mountains to the east, and City of San Diego Otay Mesa Community Plan Area to the west.

Probable Environmental Effects: The District will be the CEQA Lead Agency and the DOS will be the federal lead agency for the environmental review of the proposed project. The District and DOS are jointly reviewing the proposed project pursuant to CEQA and consistent with NEPA, respectively, and will prepare a joint EIR/EIS to identify and assess potential environmental impacts, mitigation measures, and alternatives associated with the proposed project. The District and DOS have determined that an EIR/EIS is the appropriate environmental document for the proposed project because there is substantial evidence that some aspects of the proposed project individually or cumulatively may have a significant effect on the human environment. The EIR/EIS will identify the purpose and need for the proposed project, the affected environment, project alternatives (including the no action alternative), impacts of the project alternatives, and proposed mitigation measures. Environmental issues that may require detailed analysis include, but are not necessarily limited to, the following: Air quality, biological resources, cultural resources, geology and soils, greenhouse gas emissions (GHG), hazards and hazardous materials, hydrology and water quality, noise, socioeconomics/environmental justice, and transportation/traffic. Based on the preliminary scope of the proposed project, technical studies are expected to be prepared for the following issues: Air quality/GHG, biological resources, cultural resources, geology/soils, hazardous materials, hydrology and water quality, noise, and traffic.

Scoping Period: The District and DOS have issued this NOP/NOI, and are seeking review and comments within 30 days from relevant federal, tribal, state, and local government entities, interested parties, and the public about the scope of the EIR/EIS, alternatives and analyses, pursuant to CEQA Section 21153(a); California Code of Regulations, Title 14, section 15082(a) and 15083; and consistent with the National Environmental Policy Act of 1969 (as implemented by the Council on Environmental Quality Regulations found at 40 CFR 1500-1508). The comment period for the NOP/NOI begins on November 14, 2014 and ends on December 14, 2014.

A copy of this NOP/NOI is available on the proposed project's Web site: www.owd-desalconveyance.com. The California Office of Planning and Research is responsible for coordinating state-level review of the CEQA/NEPA document. Additionally, DOS will publish the NOP/NOI in the Federal Register pursuant to CEQ Regulations, Sections 1501.7 and 1508.22. Once the NOP/NOI is published in the Federal Register, the 30-day scoping/comment period begins consistent with NEPA. The District and DOS will also undertake any consultations required by applicable laws or regulations, including the National Historic Preservation Act (16 U.S.C. 470, et seq.).

All comments in response to the NOP/NOI must be submitted by December 14, 2014. Comments may be submitted at www.regulations.gov by entering the title of this Notice into the search field and following the prompts. Comments may also be submitted by mail at the address below. All comments from agencies or organizations should indicate a contact person for each agency or organization, if applicable.

All comments received during the scoping period may be made public, no matter how initially submitted. Comments are not private and will not be edited to remove identifying or contact information. Commenters are cautioned against including any information that they would not want publicly disclosed. Any party soliciting or aggregating comments from other persons is further requested to direct those persons not to include any identifying or contact information, or information they would not want publicly disclosed, in their comments.

Public Scoping Meeting: A public scoping meeting regarding the EIR/EIS will be held from 5:00 p.m. to 8:00 p.m. on Tuesday, December 2, 2014 at the Otay Water District Board Room, located at 2554 Sweetwater Springs Blvd., Spring Valley, CA 91978. Cooperating and Responsible Agencies, as well as any interested agencies, organizations, and members of the public are invited to attend.

ADDRESSES: Written comments should be addressed to: Ms. Jill Reilly, U.S. Department of State, 2201 C Street NW., Room 2726, Washington, DC 20520. As described above, comments are not private.

FOR FURTHER INFORMATION CONTACT: Project details on the Otay Mesa Conveyance and Disinfection System Project application for a new Presidential Permit, as well as information on the Presidential Permit process, are available on the following Web site: http://www.state.gov/e/enr/applicant/applicants/. Please refer to this Web site or contact Ms. Jill Reilly at the address listed in the ADDRESSES section of this notice.

Dated: November 14, 2014.
Deborah Klepp,
Director, Office of Environmental Quality and Transboundary Issues, Department of State.

[FR Doc. 2014-27003 Filed 11-13-14; 8:45 a.m.]

BILLING CODE 4710-09-P